FEDERAL COMMUNICATIONS COMMISSION

[PS Docket No. 08-287, OMB Control Number 3060-1113, DA 08-166]

Commercial Mobile Service Providers Must File Elections Regarding Participation in the Commercial Mobile Alert System by September 8, 2008

AGENCY: Federal Communications Commission.

ACTION: Notice.

SUMMARY: This document announces that, as required by the Warning, Alert and Response Network (WARN) Act, by September 8, 2008, each Commercial Mobile Service (CMS) provider must file an election with the Federal Communications Commission (“FCC” or “Commission”) indicating whether or not it intends to transmit emergency alerts as part of the Commercial Mobile Alert System.

DATES: File elections by September 8, 2008.

ADDRESSES: PS Docket No. 08-146 is a docket specially created to receive these election letters. To file electronically in PS Docket No. 08-146, CMS providers must utilize the Commission's Electronic Comment Filing System (ECFS), which is accessible at the Commission's Web site, http://www.fcc.gov/cgb/ecfs.

FOR FURTHER INFORMATION CONTACT: Thomas J. Beers, Chief, Policy Division, Public Safety and Homeland Security Bureau, Federal Communications Commission at (202) 418-0952.

SUPPLEMENTARY INFORMATON: On August 7, 2008, the Commission released the Third Report and Order in PS Docket No. 07-287, FCC 08-184 (CMAS Third Report and Order) implementing provisions of the Warning, Alert and Response Network (“WARN”) Act, including, inter alia, the statutory requirement that within 30 days of release of the CMAS Third Report and Order, each Commercial Mobile Service (CMS) provider must file an election with the Commission indicating whether or not it intends to transmit emergency alerts as part of the Commercial Mobile Alert System (CMAS). The CMAS Third Report and Order noted that this filing requirement was subject to Office of Management and Budget (OMB) approval under the Paperwork Reduction Act. OMB pre-approved the filing requirement on February 4, 2008.

PS Docket No. 08-146 is a docket specially created to receive these election letters. To file electronically in PS Docket No. 08-146, CMS providers must utilize the Commission's Electronic Comment Filing System (ECFS), which is accessible at the Commission's Web site, http://www.fcc.gov/cgb/ecfs.

FCC Notice Required by the Paperwork Reduction Act

As required by the Paperwork Reduction act of 1995 (44 U.S.C. 3507), the FCC is notifying the public that it received OMB pre-approval on February 4, 2008, for the collection of information described in this public notice. Public reporting burden for this collection of information is estimated to be 6 minutes per response, including the time for reviewing instructions, searching existing data sources, gathering and maintaining the data needed, and completing and reviewing the collection of information. This collection of information is for the purpose of assisting the Commission in overseeing the Commercial Mobile Service Alert System. This collection is mandatory under the Warning, Alert and Response Network Act, Section 602(b)(2)(A), Title VI of the Security and Accountability for Every Port Act of 2006, Public Law No. 109-347, 120 Stat. 1884 (2006). Send comments regarding this burden estimate, or any other aspect of this collection of information, including suggestions for reducing the burden to Federal Communications Commission, AMD-PERM, Washington, DC 20554, Paperwork Reduction Project (3060-1113), or via the Internet to PRA@fcc.gov. DO NOT SEND ELECTION LETTERS TO THIS ADDRESS.

Under 5 CFR 1320, an agency may not conduct or sponsor a collection of information unless it displays a currently valid OMB Control Number. No person shall be subject to any penalty for failing to comply with a collection of information subject to the Paperwork Reduction Act (PRA) that does not display a currently valid OMB Control Number. This collection has been assigned OMB Control Number 3060-1113 and its expiration date is February 28, 2011.

The foregoing notice is required by the Paperwork Reduction Act of 1995, Public Law 104-13, October 1, 1995, 44 U.S.C. 3507.

Federal Communications Commission.
Lisa M. Fowlkes,
Deputy Chief, Public Safety & Homeland Security Bureau.

[FR Doc. E8-20542 Filed 9-3-08; 8:45 am]

BILLING CODE 6712-01-P